DEPARTMENT OF COMMERCE

National Oceanic and Atmospheric Administration

50 CFR Part 697

[Docket No. 010918229-3033-02; I.D. 022301A]

RIN 0648-AP15

American Lobster Fishery; Correction

AGENCY: National Marine Fisheries Service (NMFS), National Oceanic and Atmospheric Administration (NOAA), Commerce.

ACTION: Correction to the final rule.

SUMMARY: This document contains a correction to the final rule published March 27, 2003, at 68 FR 14902. This rule amends regulations to modify the conservation management measures to the American lobster fisheries.

DATES: This correction is effective April 28, 2003.

FOR FURTHER INFORMATION CONTACT: Robert Ross, NOAA Fisheries, Northeast Region, 978-281-9234.

SUPPLEMENTARY INFORMATION: The final rule published at 68 FR 14902 on March 27, 2003, FR Doc 03-7067 has inadvertently omitted the amendatory language that adds Table 1 to Part 697. This correction, in conforming to the Federal Register procedural requirements, adds the missing amendatory instruction 7.

Correction

Accordingly, correct the March 27, 2003, publication by adding amendatory instruction 7 to read as follows:

On page 14902, third column, at the end of text following instruction 6, add the following text: “7. Add Table 1 to Part 679 to read as follows:”.

Dated: April 1, 2003.
John Oliver,
Deputy Assistant Administrator for Operations, National Marine Fisheries Service.

[FR Doc. 03-8395 Filed 4-4-03; 8:45 am]

BILLING CODE 3510-22-S